DEPARTMENT OF AGRICULTURE

Cooperative State Research, Education, and Extension Service

National Research Initiative Competitive Grants Program

AGENCY: Cooperative State Research, Education, and Extension Service (CSREES).

ACTION: Notice to Re-submit Applications for the FY 2002 National Research Initiative Competitive Grants Program (NRICGP).

SUMMARY: Applicant institutions that have not received confirmation of receipt of NRICGP proposals sent in response to the November 15, 2001, deadline are requested to re-submit their proposals. Re-submitted proposals are due no later than close of business on December 21, 2001.

SUPPLEMENTARY INFORMATION: On August 16, 2001, (66 FR 43048) CSREES announced the availability of the FY 2002 solicitation for applications which is entitled the “NRI Program Description and Guidelines for Proposal Preparation” for the National Research Initiative Competitive Grants Program. The solicitation invited applications for competitive grant awards in agricultural, forest, and related environmental sciences for FY 2002, and required that proposals be postmarked or delivered on or before dates provided in the table at the end of the notice. Proposals for the following Program Areas were due on or before November 15, 2001:

• Plant Responses to the Environment, Code 22.1

• Managed Ecosystems, Code 23.1

• Soils and Soil Biology, Code 25.0

• Watershed Processes and Water Resources, Code 26.0

• Improving Human Nutrition for Optimal Health, Code 31.0

• Biology of Weedy and Invasive Plants, Code 51.9

Because of problems with mail delivery at the time of the November 15th deadline, CSREES is not confident it received all applications. CSREES thus requests that applicant institutions that have not received confirmation of receipt of applications submitted to meet the November 15, 2001, NRICGP deadline re-submit applications by close of business on December 21, 2001. To avoid duplicate submissions, CSREES will confirm delivery with the institutional Authorized Organization Representative (AOR) of applications delivered successfully at the November 15th NRICGP deadline. If the submitting institution is not contacted by CSREES, the institution should assume that the application(s) were not received and should re-submit them.

DATES: Re-submitted proposals are due no later than close of business on December 21, 2001. All other NRICGP deadlines are retained as published in the FY 2002 Program Description.

ADDRESSES: An original and 14 copies of the re-submitted proposals must be sent via commercial overnight delivery service only, and shipped to the following address: NRI; c/o Proposal Services Unit; Cooperative State Research, Education and Extension Service; U.S. Department of Agriculture; Room 1307, Waterfront Centre; 800 9th Street, SW.; Washington, DC 20024; telephone: (202) 401-5048.

FOR FURTHER INFORMATION CONTACT: Ms. Janice Donatone, Team Leader, Proposal Services Unit; phone: (202) 401-5048; E-mail: psb@reeusda.gov.

Additional information concerning this issue is posted on the Agency's Web site at: www.reeusda.gov.

Done at Washington, DC this 7th day of December, 2001.
Gary Cunningham,
Associate Administrator, Cooperative State Research, Education, and Extension Service.

[FR Doc. 01-30777 Filed 12-7-01; 4:23 pm]

BILLING CODE 3410-22-P